DEPARTMENT OF COMMERCE

National Oceanic and Atmospheric Administration

RIN 0648-XA445

Gulf of Mexico Fishery Management Council; Public Meeting

AGENCY: National Marine Fisheries Service (NMFS), National Oceanic and Atmospheric Administration (NOAA), Commerce.

ACTION: Council to convene public meeting.

SUMMARY: The Gulf of Mexico Fishery Management Council will convene a Web based meeting of the Socioeconomic Panel.

DATES: The webinar meeting will convene at 10 a.m. eastern time on Wednesday, June 1, 2011 and is expected to end at 12 p.m.

ADDRESSES: The webinar will be accessible via Internet. Please go to the Gulf of Mexico Fishery Management Council's Web site at http://www.gulfcouncil.org for instructions.

Council address: Gulf of Mexico Fishery Management Council, 2203 N. Lois Avenue, Suite 1100, Tampa, Florida 33607.

FOR FURTHER INFORMATION CONTACT: Dr. Assane Diagne, Economist; Gulf of Mexico Fishery Management Council; telephone: 813-348-1630.

SUPPLEMENTARY INFORMATION: The Gulf of Mexico Fishery Management Council (Council) will convene its Socioeconomic Panel (SEP) to review the annual catch limit and annual catch target control rules and discuss the generic annual catch limits/accountability measures amendment.

Copies of the agenda and other related materials can be obtained by calling 813-348-1630.

Although other non-emergency issues not on the agenda may come before the Socioeconomic Panel for discussion, in accordance with the Magnuson-Stevens Fishery Conservation and Management Act (M-SFCMA), those issues may not be the subject of formal action during this meeting. Actions of the SEP will be restricted to those issues specifically identified in the agenda and any issues arising after publication of this notice that require emergency action under section 305(c) of the M-SFCMA, provided the public has been notified of the Council's intent to take action to address the emergency.

Special Accommodations

This webinar is accessible to people with disabilities. For assistance with any of our webinars contact Kathy Pereira at the Council (see ADDRESSES) at least five working days prior to the webinar.

Dated: May 13, 2011.
Tracey L. Thompson,
Acting Director, Office of Sustainable Fisheries, National Marine Fisheries Service.

[FR Doc. 2011-12234 Filed 5-17-11; 8:45 am]

BILLING CODE 3510-22-P